DEPARTMENT OF DEFENSE

48 CFR Parts 202, 208, 215, 219, 222, 225, 226, 242, and 252

Defense Federal Acquisition Regulation Supplement; Technical Amendments

Correction

In rule document 00-22094 beginning on page 52951, in the issue of Thursday, August 31, 2000, make the following corrections:

202.101 [Corrected]

1. On page 52951, in the second column, in amendatory instruction 3.b., in the fourth line, “U.S.”; should read “U.S”.

208.7301 [Corrected]

2. On page 52951, in the third column, in section 208.7301, the 11th line, “(FLIS” should read “ (FLIS)”.

208.7303 [Corrected]

3. On page 52952, in the first column, section 208.7303, in amendatory instruction 7.b., in the third line, “Material” should read “Materiel”.

215.404-76 [Corrected]

4. On page 52952, in the first column, in section 215.404-76(g), in the third line, “DD-AT-&L(Q)” should read “ DD-AT&L(Q)”.

215.407-4 [Corrected]

5. On page 52952, in the second column, in section 215.407-4(c)(1), in the second line, “Act” should read “Agency”.

215.407-4 [Corrected]

6. On page 52952, in the second column, in section 215.407-4(c)(2), in the first line, “is” should read “or”.

7. On page 52952, in the second column, in section 215.407-4(c)(2), in the third line from the bottom, after “defined”, add “in”.

219.708 [Corrected]

8. On page 52952, in the second column, in the section heading, “219.70 ” should read “219.708”.

PART 222 [CORRECTED]

9. On page 52952, in the second column, in the part heading, “PART 22” should read “PART 222”.

225.7019-2 [Corrected]

10. On page 52952, in the third column, section 225.7019-2(b), in the first line, “restrictions” should read “restriction”.

226.104 [Corrected]

11. On page 52952, in the third column, in section 226.104, in amendatory instruction 21.a., in the third line, “26.10(a)” should read “26.104(a)”.

242.302 [Corrected]

12. On page 52953, in the first column, in section 242.302, in amendatory instruction 24.b., in the third line, “DMC” should read “DCMC”.

252.225-7009 [Corrected]

13. On page 52953, in the second column, in section 252.225-7009, in amendatory instruction 30.b. in the fourth line, “(DCMC)” should read “(DCM)”.

[FR Doc. C0-22094 Filed 9-28-00; 8:45 am]

BILLING CODE 1505-01-D

ENVIRONMENTAL PROTECTION AGENCY

40 CFR Parts 51 and 85

[FRL-6871-4]

RIN 2060-AJ03

Amendments to Vehicle Inspection Maintenance Program Requirements Incorporating the Onboard Diagnostic Check

Correction

In proposed rule document 00-24048 beginning on page 56844 in the issue of Wednesday, September 20, 2000, make the following corrections:

On pages 56849 and 56850 change “OBM-I/M” to “OBD-I/M” wherever it appears.

[FR Doc. C0-24048 Filed 9-28-00; 8:45 am]

BILLING CODE 1505-01-D